DEPARTMENT OF TRANSPORTATION

Federal Aviation Administration

Notice of Intent To Rule on Request To Release Airport Property at Yellowstone Regional Airport, Cody, WY

AGENCY: Federal Aviation Administration (FAA), DOT.

ACTION: Notice of request to release airport property.

SUMMARY: The FAA proposes to rule and invite public comment on the release of land at Yellowstone Regional Airport under the provisions of Section 125 of the Wendell H. Ford Aviation Investment Reform Act for the 21st Century (AIR 21).

DATES: Comments must be received on or before April 15, 2019.

ADDRESSES: Comments on this application may be mailed or delivered to the FAA at the following address: Mr. John P. Bauer, Manager, Federal Aviation Administration, Northwest Mountain Region, Airports Division, Denver Airports District Office, 26805 E. 68th Avenue, Suite 224, Denver, CO 80249-6361.

In addition, one copy of any comments submitted to the FAA must be mailed or delivered to Mr. Bob Hooper, Airport Manager, Yellowstone Regional Airport, Cody, WY, at the following address: Mr. Bob Hooper, Airport Manager, Yellowstone Regional Airport, P.O. Box 2748, Cody, WY 82414.

FOR FURTHER INFORMATION CONTACT: Mr. Jesse Lyman, Utah State Engineer, Federal Aviation Administration, Northwest Mountain Region, Denver Airports District Office, 26805 E. 68th Avenue, Suite 224, Denver, CO 80249-6361.

The request to release property may be reviewed, by appointment, in person at this same location.

SUPPLEMENTARY INFORMATION: The FAA invites public comment on the request to release property at Yellowstone Regional Airport under the provisions of the AIR 21 (49 U.S.C. 47107(h)(2)).

On March 5, 2019, the FAA determined that the request to release property at Yellowstone Regional Airport submitted by the Yellowstone Regional Airport meets the procedural requirements of the FAA. The FAA may approve the request, in whole or in part, no later than April 15, 2019.

The following is a brief overview of the request:

The City of Cody, WY, and the Yellowstone Regional Airport are proposing the release from the terms, conditions, reservations, and restrictions on a 2.47 acre parcel of property acquired by the City of Cody on July 2, 1958, from the Bureau of Land Management. The parcel proposed for release is adjacent to a parcel that was previously released and will accommodate a new animal shelter or expansion of the existing shelter. The parcel is located on the southeast corner of the airport and is far removed from any present or foreseeable aviation development. It is no longer needed for aviation purposes. The property will be sold at fair market value and the funds received will be reinvested in the operation and maintenance of the airport.

Any person may inspect, by appointment, the request in person at the FAA office listed above under FOR FURTHER INFORMATION CONTACT.

In addition, any person may, upon appointment and request, inspect the application, notice and other documents germane to the application in person at the Yellowstone Regional Airport.

Issued in Denver, Colorado on March 5, 2019.
John P. Bauer,
Manager, Denver Airports District Office.

[FR Doc. 2019-04788 Filed 3-14-19; 8:45 am]

BILLING CODE 4910-13-P